DEPARTMENT OF ENERGY

Federal Energy Regulatory Commission

[Docket No. EG01-161-000, et al.]

Haleywest L.L.C., et al.; Electric Rate and Corporate Regulation Filings

March 30, 2001.

Take notice that the following filings have been made with the Commission:

1. Haleywest L.L.C.

[Docket No. EG01-161-000]

Take notice that on March 28, 2001, 2001, Haleywest L.L.C. (Applicant), an Idaho limited liability company, whose address is P.O. Box 171, Laclede, Idaho 83851 filed with the Federal Energy Regulatory Commission an application for determination of exempt wholesale generator status pursuant to part 365 of the Commission's regulations. Applicant intends to lease and operate a facility comprised of three (3), continuously rated 1.6-megawatt generator sets (non-road engines) fired on diesel fuel with a maximum total output of 6-megawatts (the “Facility”). The Facility is located in Plummer, Idaho. Electric energy produced by the Facility will be sold by Applicant to the wholesale power market in the Northwestern United States.

Comment date: April 20, 2001, in accordance with Standard Paragraph E at the end of this notice. The Commission will limit its consideration of comments to those that concern the adequacy or accuracy of the application.

2. Fountain Valley Power, L.L.C.

[Docket No. EG01-162-000]

Take notice that on March 26, 2001, Fountain Valley Power, L.L.C. (Applicant), filed with the Federal Energy Regulatory Commission an application for determination of exempt wholesale generator status pursuant to Part 365 of the Commission's regulations.

Applicant is presently a wholly-owned subsidiary of Enron North America Corp., but is expected to become a wholly-owned indirect subsidiary of Black Hills Energy Capital, Inc.

Applicant stated that it served its application on the following: Public Service Company of Colorado, the Colorado Public Utilities Commission, South Dakota Public Utility Commission, Wyoming Public Service Commission and the Securities and Exchange Commission.

Comment date: April 20, 2001, in accordance with Standard Paragraph E at the end of this notice. The Commission will limit its consideration of comments to those that concern the adequacy of accuracy of the application.

3. Pinnacle West Energy Corporation

[Docket No. EG01-163-000]

Take notice that on March 28, 2001, Pinnacle West Energy Corporation (PWE) filed with the Federal Energy Regulatory Commission an application for determination of exempt wholesale generator status pursuant to Part 365 of the Commission's regulations.

PWE is a wholly owned subsidiary of Pinnacle West Capital Corporation (PNW) and an associate company of Arizona Public Service Company. PWE was created to serve as PNW's competitive generation affiliate. The eligible facilities to be owned by PWE are a 120 MW natural gas-fired, combined cycle unit that is presently under construction and 10 trailer-mounted generating units with a combined capacity of less than 200 MW.

Comment date: April 20, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8459 Filed 4-5-01; 8:45 am]

BILLING CODE 6717-01-P